ENVIRONMENTAL PROTECTION AGENCY

[OPP-2003-0184; FRL-7324-7]

Molinate; Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of requests from Syngenta Crop Protection, Inc. and Helm Agro US, Inc. to voluntarily cancel the registrations for all of their products containing S-ethyl hexahydro-1H-azepine-1-carbothioate (molinate). At the close of the comment period, EPA intends to issue an order granting these cancellation requests, unless the Agency receives substantive comments within the comment period that would merit its further review of these requests, or the requests have been withdrawn.

DATES: Comments must be received by October 17, 2003. Unless the Agency receives substantive comments within the comment period that would merit its further review of these requests, or the requests have been withdrawn by October 17, 2003, EPA intends to issue an order canceling these registrations at the close of the comment period.

FOR FURTHER INFORMATION CONTACT: Wilhelmena Livingston, Special Review and Reregistration Division (7508C), Office of Pesticide Programs, Environmental Protection Agency, 1200 Pennsylvania Ave., NW., Washington, DC 20460-0001; telephone number: (703) 308-8025, e-mail address: livingston.wilhelmena@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established an official public docket for this action under docket identification (ID) number OPP-2003-0184. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket ID number.

Certain types of information will not be placed in EPA's Dockets. Information claimed as CBI and other information whose disclosure is restricted by statue, which is not included in the official public docket, will not be available for public viewing in EPA's electronic public docket. EPA's policy is that copyrighted material will not be placed in EPA's electronic public docket but, will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B. EPA intends to work towards providing electronic access to all of the publicly available docket materials through EPA's electronic public docket.

Public comments submitted on computer disks that are mailed or delivered to the docket will be transferred to EPA's electronic public docket. Public comments that are mailed or delivered to the docket will be scanned and placed in EPA's electronic public docket. Where practical, physical objects will be photographed, and the photograph will be placed in EPA's electronic public docket along with a brief description written by the docket staff.

C. How and to Whom Do I Submit Comments?

You may submit comments electronically, by mail, or through hand delivery/courier. To ensure proper receipt by EPA, identify the appropriate docket ID number in the subject line on the first page of your comment. Please ensure that your comments are submitted within the specified comment period. Comments received after the close of the comment period will be marked “late.” EPA is not required to consider these late comments. If you wish to submit CBI or information that is otherwise protected by statute, please follow the instructions in Unit I.D. Do not use EPA Dockets or e-mail to submit CBI or information protected by statue.

1. Electronically. If you submit an electronic comment as prescribed in this unit, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Docket. Your use of EPA's electronic public docket to submit comments to EPA electronically is EPA's preferred method for receiving comments. Go directly to EPA Dockets at http://www.epa.gov/edocket/ and follow the online instructions for submitting comments. Once in the system select “search,” and then key in docket ID number OPP-2003-0184. The system is an “anonymous access” system, which means EPA will not know your identity, e-mail address, or other contact information unless you provide it in the body of your comment.

ii. E-mail. Comments may be sent by e-mail to opp-docket@epa.gov, Attention: Docket ID Number OPP-2003-0184. In contrast to EPA's electronic public docket, EPA's e-mail system is not an “anonymous access” system. If you send an e-mail comment directly to the docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in Unit I.C.2. These electronic submissions will be accepted in WordPerfect or ASCII file format. Avoid the use of special characters and any form of encryption.

2. By mail. Send your comments to: Public Information and Records Integrity Branch (PIRIB) (7502C), Office of Pesticide Programs (OPP), Environmental Protection Agency, 1200 Pennsylvania Ave., NW., Washington, DC 20460-0001, Attention: Docket ID Number OPP-2003-0184.

3. By hand delivery or courier. Deliver your comments to: Public Information and Records Integrity Branch (PIRIB), Office of Pesticide Programs (OPP), Environmental Protection Agency, Rm. 119, Crystal Mall #2, 1921 Jefferson Davis Hwy., Arlington, VA, Attention: Docket ID Number OPP-2003-0184. Such deliveries are only accepted during the docket's normal hours of operation as identified in Unit I.B.1.

D. How Should I Submit CBI to the Agency?

Do not submit any information that you consider to be CBI electronically through EPA's electronic public docket or by e-mail. You may claim information that you submit to EPA as CBI by marking any part or all of that information as CBI (if you submit CBI on disk or CD ROM, mark the outside of the disk or CD ROM as CBI and then identify electronically within the disk or CD ROM as CBI the specific information that is CBI). Information so marked will not be disclosed except in accordance with procedures set forth in 40 CFR part 2.

In addition to one complete version of the comment that includes any information claimed as CBI, a copy of the comment that does not contain the information claimed as CBI must be submitted for inclusion in the public docket and EPA's electronic public docket. If you submit the copy that does not contain CBI on disk or CD ROM, mark the outside of the disk or CD ROM clearly that it does not contain CBI. Information not marked as CBI will be included in the public docket and EPA's electronic public docket without prior notice. If you have any questions about CBI or the procedures for claiming CBI, please consult the person listed under FOR FURTHER INFORMATION CONTACT.

II. Background

What Action is the Agency Taking?

This notice announces receipt by the Agency of requests from Syngenta Protection Crop, Inc. and Helm Agro US, Inc. to cancel the registration of 14 pesticide products registered under section 3 or 24(c) of the Federal Insecticide, Fungicide, and Rodenticide Act (FIFRA). The 14 registrations constitute all registrations held by Syngenta Crop Protection, Incorporated and Helm Agro US, Incorporated of products containing S-ethyl hexahydro-1H-azepine-1-carbothioate (molinate). These requests are submitted pursuant to section 6(f) of FIFRA.

On June 2, 2003, Syngenta Crop Protection, Inc., and on August 7, 2003, Helm Agro US, Inc. submitted a letter to EPA requesting cancellation, effective June 30, 2008, of the registrations of all their molinate products, and to modify the terms and conditions of its molinate registration until the cancellation is effective. Syngenta and Helm also requested that the Administrator waive the 180-day waiting period under FIFRA section 6(f)(1)(C)(ii).

Molinate (S-ethyl hexahydro-1H-azepine-1-carbothiate) is a thiocarbamate herbicide registered for use primarily for the control of water grass in rice. Rice is grown in California and the south central/south eastern states of Arkansas, Louisiana, Missouri, Texas, and Tennessee. The registrations subject to the requests for cancellation are listed in Table 1 of this unit:

Table 1.—Registrations with Pending Requests for Cancellation
Registration number | Product name | Chemical name
100-981 | Riceco Molinate Technical | Molinate
100-982 | Riceco Touche | Molinate
100-983 | Molinate 15G | Molinate
100-1021 | Ordram 8-E An Emulsufiable Liquid Herbicide | Molinate
100-1036 | Arrosolo 3-3E | Molinate
100-1039 | Ordram 15-G | Molinate
100-1040 | Ordram Techncial Herbicide | Molinate
100-1102 | Ordram 15-GM Rice Herbicide | Molinate
74530-7 | Molinate Technical | Molinate
CA77015900 | Ordram 8-E An Emulsufiable Liquid Herbicide | Molinate
CA84017200 | Ordram 8-E An Emulsufiable Liquid Herbicide | Molinate
CA85005300 | Ordram 8-E An Emulsufiable Liquid Herbicide | Molinate
TX81002600 | Ordram 8-E An Emulsufiable Liquid Herbicide | Molinate
TN93000700 | Ordram 15-G | Molinate

At the close of the comment period, EPA intends to issue an order granting these cancellation requests, unless the Agency receives substantive comments within the comment period that would merit its further review of these requests, or the requests have been withdrawn. Users of these pesticides or anyone else desiring the retention of a registration should send in their comments to EPA. In addition, they may wish to contact the applicable registrant directly.

Table 2 of this unit includes the name and address of record for the registrants of the products in Table 1 of this unit:

Table 2. —Registrants Requesting Voluntary Cancellation
EPA Company number | Company name and address
100 | Syngenta Crop Protection, Inc., P.O. Box 18300, Greensboro, NC 27419-8300
74530 | Helm Agro US, Inc., Nordkanalstrasse 28 D-20097, Hamburg, Germany

A. Modification of the Terms and Conditions of the Molinate Registrations

The 2002 sales level of the molinate active ingredient will be the maximum amount that Syngenta and Helm will sell or distribute in 2004, 2005, and 2006. Syngenta and Helm may not sell or distribute any more than 75% of the 2002 sales levels in the year 2007, and sell or distribute more than 50% of the 2002 sales levels in the year 2008.

Syngenta and Helm will provide annual production/sales reports to the Agency beginning in the year 2004 through 2009. Syngenta and Helm will also provide inventory reports for the years 2007, 2008, and 2009. These reports will be submitted by September 30 of each year to the Chemical Review Manager for molinate.

Failure by either registrant to comply with the sale or distribution limits contained in the molinate registration constitutes grounds for immediate cancellation of the registration without opportunity for a hearing.

III. What Is the Agency's Authority for Taking this Action?

Section 6(f)(1) of FIFRA provides that a registrant of a pesticide product may at any time request that any of its pesticide registrations be canceled. FIFRA further provides that, before acting on the request, EPA must publish a notice of receipt of any such request in the Federal Register and provide a 30-day period in which the public may comment before the Agency may act on the request for voluntary cancellation. In the case of minor agricultural uses, section 6(f)(1)(c) of FIFRA provides for a 180-day comment period under certain circumstances. In this case, both molinate registrants requested that EPA waive the 180-day comment period. Accordingly, pursuant to section 6(f)(1)(c)(ii) of FIFRA, EPA is waiving the 180-day comment period, and will provide interested parties 30 days to comment on the action.

IV. Procedures for Withdrawal of Request

Registrants who choose to withdraw a request for cancellation must submit such withdrawal in writing to the person listed under FOR FURTHER INFORMATION CONTACT, postmarked before October 17, 2003. This written withdrawal of the request for cancellation will apply only to the applicable FIFRA section 6(f)(1) request listed in this notice. If the product(s) have been subject to a previous cancellation action, the effective date of cancellation and all other provisions of any earlier cancellation action are controlling. The withdrawal request must also include a commitment to pay any reregistration fees due, and to fulfill any applicable unsatisfied data requirements. Any person, including the registrant, who wants to support the continued registration of molinate, must fulfill all outstanding data gaps. In addition, EPA must find that molinate is eligible for reregistration.

V. Provisions for Disposition of Existing Stocks

The Agency intends to issue a cancellation order following the consideration of all comments received during the comment period, unless the comments warrant further review of this request. Any cancellation order issued in response to this request will have an expected effective date of June 30, 2008.

After that date, Syngenta and Helm may not sell or distribute any molinate products except as detailed in the cancellation order as follows. Syngenta and Helm will be permitted to distribute the molinate active ingredient in 2009 for the purposes of facilitating usage by August 31, 2009. No use of products containing molinate will be permitted after the 2009 growing season (August 31, 2009).

List of Subjects

Environmental protection, Pesticides and pests.

Dated: September 4, 2003.
Betty Shackleford,
Acting Director, Special Review and Reregistration Division, Office of Pesticide Programs.

[FR Doc. 03-23430 Filed 9-16-03; 8:45 am]

BILLING CODE 6560-50-S